NATIONAL SCIENCE FOUNDATION

National Science Board

Sunshine Act Meetings; Notice

The National Science Board's ad hoc Task Force on NEON Performance and Plans, pursuant to NSF regulations (45 CFR part 614), the National Science Foundation Act, as amended (42 U.S.C. 1862n-5), and the Government in the Sunshine Act (5 U.S.C. 552b), hereby gives notice in regard to the scheduling of a meeting for the transaction of National Science Board business, as follows:

DATE AND TIME: Thursday, October 8, 2015 at 12:00 noon to 1:00 p.m. EDT.

SUBJECT MATTER: Task Force Chair's opening remarks; approval of minutes; update from NSF; discussion of NEON-related documents and activities including the history of Board discussion of NEON awards; and Chair's closing remarks.

STATUS: Closed.

This meeting will be held by teleconference originating at the National Science Board Office, National Science Foundation, 4201Wilson Blvd., Arlington, VA 22230.

Please refer to the National Science Board Web site (www.nsf.gov/nsb) for information or schedule updates, or contact: John Veysey (jveysey@nsf.gov), National Science Foundation, 4201Wilson Blvd., Arlington, VA 22230.

Kyscha Slater-Williams,
Program Specialist.

[FR Doc. 2015-25395 Filed 10-1-15; 4:15 pm]

BILLING CODE 7555-01-P